DEPARTMENT OF COMMERCE

International Trade Administration

[A-570-890]

Wooden Bedroom Furniture From the People's Republic of China: Partial Rescission of Antidumping Duty Administrative Review

AGENCY: Enforcement and Compliance, International Trade Administration, Department of Commerce.

SUMMARY: On January 4, 2005, the Department of Commerce (Department) published in the Federal Register the antidumping duty order on wooden bedroom furniture from the People's Republic of China (PRC).¹ On February 28, 2014, the Department published in the Federal Register a notice of initiation of an administrative review of that order.² The review covers 127 companies. Based on timely withdrawals of all review requests for certain companies, we are now rescinding the administrative review with respect to 101 companies.

¹ See Notice of Amended Final Determination of Sales at Less Than Fair Value and Antidumping Duty Order: Wooden Bedroom Furniture From the People's Republic of China, 70 FR 329 (January 4, 2005).

² See Initiation of Antidumping and Countervailing Duty Administrative Reviews and Request for Revocation in Part, 79 FR 11401 (February 28, 2014) (Initiation Notice). The Department inadvertently excluded certain companies for which reviews had been requested from the list of companies for which it initiated an administrative review in the Initiation Notice. The Department listed those companies in a subsequent initiation notice (see Initiation of Antidumping and Countervailing Duty Administrative Reviews and Request for Revocation in Part, 79 FR 18262 (April 1, 2014)).

DATES: Effective Date: October 16, 2014.

FOR FURTHER INFORMATION CONTACT: Jeffrey Pedersen or Patrick O'Connor, AD/CVD Operations, Office IV, Enforcement and Compliance, International Trade Administration, U.S. Department of Commerce, 14th Street and Constitution Avenue NW., Washington, DC 20230, telephone: (202) 482-2769 or (202) 482-0989, respectively.

Background

On January 2, 2014, the Department published a notice of opportunity to request an administrative review of the antidumping duty order on wooden bedroom furniture from the PRC.³ In January 2014, the Department received multiple timely requests to conduct an administrative review of the antidumping duty order on wooden bedroom furniture from the PRC. On February 28, 2014, in accordance with section 751(a) of Tariff Act of 1930, as amended (the Act), the Department published in the Federal Register a notice of the initiation of an administrative review of that order.⁴ The administrative review was initiated with respect to 127 companies, and covers the period from January 1, 2013, through December 31, 2013. While a number of companies remain under review, the requesting parties have timely withdrawn all review requests for certain companies, as discussed below.

³ See Antidumping or Countervailing Duty Order, Finding, or Suspended Investigation; Opportunity To Request Administrative Review, 79 FR 103 (January 2, 2014).

⁴ See Initiation Notice.

Rescission of Review, in Part

Pursuant to 19 CFR 351.213(d)(1), the Department will rescind an administrative review, in whole or in part, if a party that requested the review withdraws its request within 90 days of the date of publication of the notice of initiation of the requested review. All requesting parties withdrew their respective requests for an administrative review of the companies listed in the Appendix within 90 days of the date of publication of Initiation Notice. Accordingly, the Department is rescinding this review, in part, with respect to these companies, in accordance with 19 CFR 351.213(d)(1).⁵

⁵ See Appendix. As stated in Change in Practice in NME Reviews, the Department will no longer consider the non-market economy (“NME”) entity as an exporter conditionally subject to administrative reviews. See Antidumping Proceedings: Announcement of Change in Department Practice for Respondent Selection in Antidumping Duty Proceedings and Conditional Review of the Nonmarket Economy Entity in NME Antidumping Duty Proceedings, 78 FR 65963 (November 4, 2013) (“Change in Practice in NME Reviews”).

Assessment

The Department will instruct U.S. Customs and Border Protection (“CBP”) to assess antidumping duties on all appropriate entries. For the companies for which this review is rescinded, antidumping duties shall be assessed at rates equal to the cash deposit of estimated antidumping duties required at the time of entry, or withdrawal from warehouse, for consumption, in accordance with 19 CFR 351.212(c)(l)(i). The Department intends to issue appropriate assessment instructions directly to CBP 15 days after publication of this notice.

Notification to Importers

This notice serves as the only reminder to importers whose entries will be liquidated as a result of this rescission notice, of their responsibility under 19 CFR 351.402(f)(2) to file a certificate regarding the reimbursement of antidumping duties prior to liquidation of the relevant entries during this review period. Failure to comply with this requirement could result in the Secretary's assumption that the reimbursement of antidumping duties occurred and the subsequent assessment of double antidumping duties.

Notification Regarding Administrative Protective Orders

This notice also serves as a reminder to parties subject to administrative protective orders (“APO”) of their responsibility concerning the return or destruction of proprietary information disclosed under an APO in accordance with 19 CFR 351.305, which continues to govern business proprietary information in this segment of the proceeding. Timely written notification of the return or destruction of APO materials or conversion to judicial protective order is hereby requested. Failure to comply with the regulations and terms of an APO is a violation which is subject to sanction.

This notice is issued and published in accordance with sections 751(a)(1) and 777(i)(1) of the Act, and 19 CFR 351.213(d)(4).

Dated: October 3, 2014.
Christian Marsh,
Deputy Assistant Secretary for Antidumping and Countervailing Duty Operations.

Appendix

• Alexandre Furniture (Shenzhen) Co., Ltd.

• Alexandre International Corp.

• Balanza, Ltd.

• Best King International Ltd.

• Billy Wood Industrial (Dong Guan) Co., Ltd.

• BNBM Co. Ltd. (a.k.a. Beijing New Materials Co., Ltd.)

• Brother Furniture Manufacture Co., Ltd.

• C.F. Kent Co., Inc.

• C.F. Kent Hospitality, Inc.

• Changshu Htc Import & Export Co., Ltd.

• Chuan Fa Furniture Factory

• Classic Furniture Global Co., Ltd.

• Dalian Guangming Furniture Co., Ltd.

• Decca Furniture Ltd.

• Der Cheng Furniture Co., Ltd.

• Der Cheng Wooden Works Of Factory

• Dongguan Bon Ten Furniture Co., Ltd.

• Dongguan Grand Style Furniture Co., Ltd.

• Dongguan Huansheng Furniture Co., Ltd.

• Dongguan Kingstone Furniture Co., Ltd., Kingstone Furniture Co., Ltd.

• Dongguan Lung Dong Furniture Co., Ltd., Dongguan Dong He Furniture Co., Ltd.

• Dongguan Mingsheng Furniture Co., Ltd.

• Dongguan Mu Si Furniture Co., Ltd.

• Dongguan Sunrise Furniture Co., Ltd., Taicang Sunrise Wood Industry Co., Ltd., Taicang Fairmount Designs Furniture Co., Ltd., Meizhou Sunrise Furniture Co., Ltd.

• Dongguan Sunshine Furniture Co., Ltd.

• Dongying Huanghekou Furniture Industry Co., Ltd.

• Dorbest Ltd., Rui Feng Woodwork Co., Ltd. a.k.a. Rui Feng Woodwork (Dongguan) Co., Ltd., Rui Feng Lumber Development Co., Ltd. a.k.a. Rui Feng Lumber Development (Shenzhen) Co., Ltd.

• Dream Rooms Furniture (Shanghai) Co., Ltd.

• Fairmont Designs

• Fine Furniture (Shanghai) Ltd.

• Fleetwood Fine Furniture LP.

• Foliot Furniture Inc., a.k.a. Meubles Foliot Inc.

• Fortune Furniture Ltd., Dongguan Fortune Furniture Ltd.

• Fortune Glory Industrial Ltd. (H.K. Ltd.), Tradewinds Furniture Ltd.

• Fuijian Lianfu Forestry Co, Ltd. a.k.a. Fujian Wonder Pacific Inc., Fuzhou Huan Mei Furniture Co., Ltd. Jiangsu Dare Furniture Co., Ltd.

• Great Union Industrial (Dongguan) Co., Ltd.

• Guangdong New Four Seas Furniture Manufacturing Ltd.

• Guangzhou Lucky Furniture Co., Ltd.

• Guangzhou Maria Yee Furnishings Ltd., Pyla HK Ltd., Maria Yee, Inc.

• Hainan Jong Bao Lumber Co., Ltd.

• Hang Hai Woodcrafts Art Factory

• Hong Kong Da Zhi Furniture Co., Ltd.

• Huasen Furniture Co., Ltd.

• Hung Fai Wood Products Factory, Ltd.

• Jiangmen Kinwai Furniture Decoration Co., Ltd.

• Jiangmen Kinwai International Furniture Co., Ltd.

• Jiangsu Xiangsheng Bedtime Furniture Co., Ltd.

• Jiangsu Yuexing Furniture Group Co., Ltd.

• Jibbon Enterprise Co., Ltd.

• King Rich International, Ltd.

• King's Group Furniture (ENT) Co., Ltd.

• King's Way Furniture Industries Co., Ltd.

• Kingsyear Ltd.

• Kunshan Summit Furniture Co., Ltd.

• Leefu Wood (Dongguan) Co., Ltd.

• Nanhai Jiantai Woodwork Co., Ltd., Fortune Glory Industrial Ltd. (H.K. Ltd.)

• Nathan International Ltd., Nathan Rattan Factory

• Orient International Holding Shanghai Foreign Trade Co., Ltd.

• Passwell Corporation, Pleasant Wave Ltd.

• Perfect Line Furniture Co., Ltd.

• Putian Jinggong Furniture Co., Ltd.

• Qingdao Beiyuan Shengli Furniture Co., Ltd.

• Qingdao Liangmu Co., Ltd.

• Qingdao Shengchang Wooden Co., Ltd.

• Restonic (Dongguan) Furniture Ltd., Restonic Far East (Samoa) Ltd.

• Shanghai Jian Pu Export & Import Co., Ltd.

• Shanghai Maoji Imp & Exp Co., Ltd.

• Shanghai Sunrise Furniture Co., Ltd.

• Sheng Jing Wood Products (Beijing) Co., Ltd.

• Shenzhen Forest Furniture Co., Ltd.

• Shenzhen Jiafa High Grade Furniture Co., Ltd., Golden Lion International Trading Ltd.

• Shenzhen New Fudu Furniture Co., Ltd.

• Shenzhen Wonderful Furniture Co., Ltd.

• Shenzhen Xingli Furniture Co., Ltd.

• Shing Mark Enterprise Co., Ltd., Carven Industries Limited (BVI), Carven Industries Limited (Hk), Dongguan Zhenxin Furniture Co., Ltd., Dongguan Yongpeng Furniture Co., Ltd.

• Songgang Jasonwood Furniture Factory, Jasonwood Industrial Co., Ltd. S.A.

• Southern Art Development Ltd.

• Southern Art Furniture Factory

• Starwood Industries Ltd.

• Sunforce Furniture (Hui-Yang) Co., Ltd., Sun Fung Wooden Factory, Sun Fung Co., Shin Feng Furniture Co., Ltd., Stupendous International Co., Ltd.

• Superwood Co., Ltd., Lianjiang Zongyu Art Products Co., Ltd.

• Teamway Furniture (Dong Guan) Co., Ltd., Brittomart Inc

• Techniwood Industries Ltd., Ningbo Furniture Industries Limited, Ningbo Hengrun Furniture Co. Ltd.

• Telstar Enterprises Ltd.

• Tianjin Phu Shing Woodwork Enterprise Co., Ltd.

• Time Faith Ltd.

• Tube-Smith Enterprise (Zhangzhou) Co., Ltd., Tube-Smith Enterprise (Haimen) Co., Ltd., Billionworth Enterprises Ltd.

• U-Rich Furniture (Zhangzhou) Co., Ltd., U-Rich Furniture Ltd.

• Wanvog Furniture (Kunshan) Co., Ltd.

• Woodworth Wooden Industries (Dong Guan) Co., Ltd.

• Xiamen Yongquan Sci-Tech Development Co., Ltd.

• Xilinmen Group Co. Ltd.

• Yichun Guangming Furniture Co. Ltd.

• Yihua Timber Industry Co., Ltd., Guangdong Yihua Timber Industry Co., Ltd.

• Zhangjiagang Daye Hotel Furniture Co., Ltd.

• Zhangjiang Sunwin Arts & Crafts Co., Ltd.

• Zhangzhou Guohui Industrial & Trade Co., Ltd.

• Zhong Shan Fullwin Furniture Co., Ltd.

• Zhongshan Fookyik Furniture Co., Ltd.

• Zhongshan Golden King Furniture Industrial Co., Ltd.

• Zhoushan For-Strong Wood Co., Ltd.

[FR Doc. 2014-24657 Filed 10-15-14; 8:45 am]

BILLING CODE 3510-DS-P